DEPARTMENT OF TRANSPORTATION

Federal Highway Administration

Notice of Final Federal Agency Actions on Proposed Southern Extension of SR-186 and the US 45 Bypass Project in Tennessee

AGENCY: Federal Highway Administration (FHWA), DOT.

ACTION: Notice of limitation on claims for judicial review of actions by FHWA and other Federal agencies.

SUMMARY: This notice announces actions taken by FHWA and other Federal agencies that are final. The actions relate to a proposed highway project for the Southern Extension of State Route (SR) 186 and the US 45 Bypass from SR-1 (US 70/Airways Boulevard) to SR-5 (US 45/South Highland Avenue) on the south side of Jackson in Madison County, Tennessee. Those actions grant licenses, permits, and approvals for the project. The FHWA's Finding of No Significant Impact (FONSI) provides details on the Selected Alternative for the proposed improvements.

DATES: By this notice, FHWA is advising the public of final agency actions subject to 23 U.S.C. 139(l)(1). A claim seeking judicial review of the Federal agency actions on the highway project will be barred unless the claim is filed on or before OCTOBER 17, 2019. If the Federal law that authorizes judicial review of a claim provides a time period of less than 150 days for filing such claim, then that shorter time period still applies.

FOR FURTHER INFORMATION CONTACT: For FHWA: Ms. Theresa Claxton; Planning and Program Management Team Leader; Federal Highway Administration; Tennessee Division Office; 404 BNA Drive, Building 200, Suite 508; Nashville, Tennessee 37217; Telephone (615) 781-5770; email: Theresa.Claxton@dot.gov. FHWA Tennessee Division Office's normal business hours are 7:30 a.m. to 4 p.m. (Central Time). You may also contact Ms. Susannah Kniazewycz, Environmental Division Director, Tennessee Department of Transportation (TDOT), James K. Polk Building, Suite 900, 505 Deaderick Street, Nashville, Tennessee 37243-0334; Telephone (615) 741-3655, Susannah.Kniazewycz@tn.gov. The TDOT Environmental Division's normal business hours are 8 a.m. to 5 p.m. (Central Time).

SUPPLEMENTARY INFORMATION: Notice is hereby given that FHWA and other Federal agencies have taken final agency actions subject to 23 U.S.C. 139(l)(1) by issuing licenses, permits, and approvals for the following highway project in the State of Tennessee: Southern Extension of SR-186 and the US 45 Bypass, Project Number HPP-NHE-1(225), PIN 109926.00, Madison County, Tennessee. The proposed action will improve local and regional mobility by providing an alternate route for through traffic separate from the developed commercial corridor along existing US 45. The Selected Alternative proposes the construction of two roadway sections within the project. The southern portion of the Bypass from north of Edwards Drive to Boone Lane consists of two 12-foot travel lanes in each direction, 6-foot inside shoulders, 12-foot outside shoulders, and a variable width depressed grass median, within an approximate 250-foot right-of-way (ROW). The northern portion of the Bypass from Boone Lane to Airways Boulevard consists of two 12-foot travel lanes in each direction, 7-foot inside shoulders, 12-foot outside shoulders, and center concrete barrier, within an approximate 200-foot ROW. Portions of the corridor include: (1) An interchange with ramps on the southern terminus of the project at US 45/South Highland to provide unimpeded access for traffic on the existing US 45/South Highland continuing north on the proposed Bypass; (2) Access via at-grade intersections for several local roads intersected by the proposed Bypass route, including: Raines Springs Road, D Street, Boone Lane, Riverside Drive, and Existing US 45 Bypass; (3) SR 18 Realignment (Raines Springs Road) from the existing SR 18 intersection with Old Malesus Road to north of the proposed US 45 Bypass. Raines Springs Road would be widened to two 12-foot travel lanes with a 12-foot center turn lane.

The actions by the Federal agencies, and the laws under which such actions were taken, are described in the Environmental Assessment (EA) for the project, approved on May 20, 2013, the Reevaluation of the EA approved on July 18, 2018, and in the FHWA FONSI issued on February 14, 2019, and in other documents in the FHWA project records. The EA, Reevaluation, FONSI, and other project records are available by contacting FHWA or TDOT at the addresses provided above. The FHWA EA, Reevaluation, and FONSI can be viewed and downloaded from the project website at https://www.tn.gov/tdot/projects/region-4/state-route-186-us-45-bypass-southern-extension, or viewed at the Jackson Planning Department, City Hall, 111 East Main Street, Suite 201, Jackson, Tennessee 38301, the TDOT Region 4, Administrative Building, 300 Benchmark Place, Jackson, Tennessee 38301, or the Jackson-Madison County Library, 433 East Lafayette Street, Jackson, Tennessee 38301.

This notice applies to all Federal agency decisions that are final as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [54 U.S.C. 300101 et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: May 7, 2019.
Pamela M. Kordenbrock,
Division Administrator, Nashville, Tennessee.

[FR Doc. 2019-09885 Filed 5-17-19; 8:45 am]

BILLING CODE 4910-RY-P